DEPARTMENT OF THE INTERIOR

National Park Service

National Museum of African American History and Culture Plan for Action Presidential Commission; Meeting

AGENCY: National Park Service.

ACTION: Notice of meeting.

Notice is hereby given in accordance with the Federal Advisory Committee Act, 5 U.S.C. Appendix, that the National Museum of African American History and Culture Plan for Action Presidential Commission will meet December 3 and 4, 2002, at The Washington Court Hotel, 525 New Jersey Avenue, NW., Washington, DC. On December 3, the Commission will convene at 7:30 a.m., EST, and adjourn at 5:15 p.m., EST. December 4, the Commission will convene at 7:30 a.m., EST and adjourn at 1:30 p.m., EST.

December 3, the Commission will receive and discuss reports from its Executive Committee and Committees on Mission Role and Vision; Site and Building; Public Relations and Legislation; Fundraising, Finance and Budget; and Governance and Organization.

December 4, the Commission will be briefed regarding information gathering town hall meetings held to date, the White House interim report analysis, and the historical retrospective of the 1929 National Memorial Commission.

The Commission meeting is open to the public. Space and facilities to accommodate the public are limited and attendees will be accommodated on a first-come basis.

Due to an unintentional misrouting of this notice during processing within the National Park Service, the notice could not be published at least 15 days prior to the meeting dates. The National Park Service regrets this error, but is compelled to hold the meeting as scheduled because of the significant sacrifice re-scheduling would require of Commission members who have adjusted their schedules to accommodate the proposed meeting dates, and the high level of anticipation by all parties who will be affected by the outcome of the Commission's actions.

Assistance to Individuals with Disabilities at the Public Meeting

The meeting site is accessible to individuals with disabilities. If you plan to attend and will need an auxiliary aid or service to participate in the meeting (e.g., interpreting service, assistive listening device, or materials in an alternative format), notify the contact person listed in this notice at least two weeks (2 weeks) before the scheduled meeting date. Attempts will be made to meet any request(s) we receive after that date, however we may not be able to make the requested auxiliary aid or service available because of insufficient time to arrange for it.

Anyone may file with the Commission a written statement concerning the establishment of a National Museum for African American History and Culture. The Commission may also permit attendees to address the assembled Commission, but may restrict the length of the presentations, as necessary to allow the Commission to complete its agenda within the allotted time.

Anyone who wishes further information concerning the meeting, or who wishes to Staff to the Commission, National Museum of African American History and submit a written statement, may contact George S. McDonald, Project Manager, Culture, National Park Service, 1849 C Street, NW., Washington, DC 20240, telephone (202) 208-4227.

Draft minutes of the meeting will be available for public inspection approximately 12 weeks after the meeting, in room 2012, Main Interior Building, 1849 C Street, NW., Washington, DC.

Dated: November 20, 2002.
George S. McDonald,
Project Manager, Staff to the National Museum of African American History and Culture Plan for Action Presidential Commission.

[FR Doc. 02-30491 Filed 12-2-02; 8:45 am]

BILLING CODE 4310-70-P